DEPARTMENT OF COMMERCE

International Trade Administration

[A-307-822]

Notice of Preliminary Determination of Sales at Less Than Fair Value and Postponement of Final Determination: Certain Cold-Rolled Carbon Steel Flat Products From Venezuela

AGENCY: Import Administration, International Trade Administration, Department of Commerce.

EFFECTIVE DATE: May 9, 2002.

FOR FURTHER INFORMATION CONTACT: Robert Bolling or Catherine Bertrand, Import Administration, International Trade Administration, U.S. Department of Commerce, 14th Street and Constitution Avenue, NW., Washington, DC 20230; telephone: (202) 482-3434 and (202) 482-3207, respectively.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR part 351 (2001).

Preliminary Determination

We preliminarily determine that certain cold-rolled carbon steel flat products (“cold-rolled steel) from Venezuela are being, or are likely to be, sold in the United States at less than fair value (“LTFV”), as provided in section 733 of the Act. The estimated margins of sales at LTFV are shown in the “Suspension of Liquidation” section of this notice.

Case History

This investigation was initiated on October 18, 2001. See Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (October 26, 2001) (“Notice of Initiation”). The Department set aside a period for all interested parties to raise issues regarding product coverage. See Notice of Initiation, at 66 FR 54204.

On October 31, 2001, the Department requested comments from petitioners and other interested parties regarding the criteria to be used for model matching purposes. On November 8, 2001, petitioners submitted comments on our proposed model matching criteria. On November 19, 2001, the United States International Trade Commission (“ITC”) notified the Department of its affirmative preliminary injury determination in this case. See Certain Cold-Rolled Steel Products From Argentina, Australia, Belgium, Brazil, China, France, Germany, India, Japan, Korea, Netherlands, New Zealand, Russia, South Africa, Spain, Sweden, Taiwan, Thailand, Turkey, and Venezuela, 66 FR 57985 (November 19, 2001).

On November 19, 2001, the Department issued an antidumping questionnaire to Siderurgica del Orinoco C.A. (“Sidor”). On December 17, 2001, Sidor submitted its response to section A of the questionnaire. Petitioners filed comments on Sidor's section A response on January 7, 2002. We issued a supplemental questionnaire for section A on January 24, 2002. Sidor submitted sections B and C response on January 22, 2002. Petitioners filed comments on Sidor's sections B and C response on February 6, 2002. We issued Sidor a supplemental questionnaire for sections B and C on February 13, 2002. On February 25, 2002, petitioners submitted supplemental section A comments. On February 27, 2002, the Department issued a second supplemental section A questionnaire. On March 13, 2002, Sidor submitted its second supplemental section A response. On March 1, 2002, and March 11, 2002, Sidor submitted its supplemental sections B and C responses. On April 1, 2002, the Department issued a supplemental questionnaire for section A, B and C. Sidor submitted its response on April 11, 2002, and April 15, 2002.

On February 7, 2002, petitioners made a timely request for a fifty-day postponement of the preliminary determination pursuant to section 733(c)(1)(A) of the Act. The Department determined that these concurrent investigations warranted the fifty-day postponement requested by petitioners. On February 14, 2002, we postponed the preliminary determination until April 26, 2002. See Postponement of Preliminary Determinations of Antidumping Duty Investigations: Certain Cold-Rolled Carbon Steel Flat Products from Argentina, Australia, Belgium, Brazil, the People's Republic of China, France, Germany, India, Japan, Korea, the Netherlands, New Zealand, Russia, South Africa, Spain, Sweden, Taiwan, Thailand, Turkey and Venezuela, 67 FR 8227 (February 22, 2002).

On March 14, 2002, petitioners submitted a sales below cost allegation. The Department concluded that a reasonable basis exists to believe or suspect that sales in the home market have been made at prices below the cost of production. On March 21, 2002, the Department initiated a sales below cost investigation. See Memorandum to Edward Yang dated March 21, 2002, Antidumping Duty Investigation of Certain Cold-Rolled Carbon Steel Flat Products from Venezuela: Analysis of Petitioners' Allegation of Sales Below the Cost of Production for Siderurgica del Orinoco C.A. (“Allegation of Sales Below Cost”). On March 22, 2002, the Department instructed Sidor to respond to section D of the questionnaire. On April 5, 2002, Sidor submitted its section D response. On April 9, 2002, petitioners submitted their preliminary determination comments for sections A through C.

Postponement of Final Determination

Pursuant to section 735(a)(2) of the Act, on April 18, 2002, Sidor requested that, in the event of an affirmative preliminary determination in this investigation, the Department postpone its final determination until not later than 135 days after the date of the publication of the preliminary determination in the Federal Register and extend the provisional measures to not more than six months. In accordance with 19 CFR 351.210(b), because (1) our preliminary determination is affirmative, (2) Sidor accounts for a significant proportion of exports of the subject merchandise, and (3) no compelling reasons for denial exist, we are granting the respondent's request and are postponing the final determination until no later than 135 days after the publication of this notice in the Federal Register. Suspension of liquidation will be extended accordingly.

Period of Investigation

The period of investigation (“POI”) is July 1, 2000 through June 30, 2001.

Scope of the Investigation

For purposes of this investigation, the products covered are certain cold-rolled (cold-reduced) flat-rolled carbon-quality steel products. For a full description of the scope of this investigation, as well as a complete discussion of all scope exclusion requests submitted in the context of the on-going cold-rolled steel investigations, please see the “Scope Appendix” attached to the Notice of Preliminary Determination of Sales at Less Than Fair Value: Certain Cold-Rolled Carbon Steel Flat Products from Argentina, published concurrently with this preliminary determination.

Fair Value Comparisons

To determine whether sales of cold-rolled steel from Venezuela to the United States were made at less than fair value, we compared the export price (“EP”) or constructed export price (“CEP”) to the normal value (“NV”), as described in the “export price and constructed export price” and “normal value” sections of this notice, below. In accordance with section 777A(d)(1)(A)(i) of the Act, we calculated weighted-average EPs and CEPs for comparison to weighted-average NVs.

Date of Sale

For its home market and U.S. sales, Sidor reported the date of invoice as the date of sale, in keeping with the Department's stated preference for using the invoice date as the date of sale. Sidor stated that the invoice date best reflects the date on which the material terms of sale are established and that price and/or quantity may change between order date and invoice date. See Sidor's section B and C response dated January 22, 2002, at B-11 and C-11.

Section 351.401(i) of the Department's regulations states that the Department will normally use the date of invoice, as recorded in the exporter's or producer's records kept in the ordinary course of business, as the date of sale. The preamble to the Final Rules (the “Preamble”) provides an explanation of this policy and examples of when the Department may choose to base the date of sale on a date other than the date of invoice. See 62 FR at 27348-49 (May 19, 1997). In accordance with 19 CFR 351.401(i), where appropriate, we based date of sale on invoice dates recorded in the ordinary course of business by the involved sellers of the subject merchandise. However, we intend to fully verify information concerning respondent's claims that invoice date is the appropriate date of sale. Based on the outcome of our verification, we will determine whether it is appropriate to continue to use the date of invoice as the date of sale. We will consider, among other things, whether, in fact, there were any changes to the material contract terms between the original order confirmation and the date of invoice. See e.g., Notice of Preliminary Determination of Sales at Not Less Than Fair Value: Pure Magnesium From the Russian Federation, 66 FR 21319 (April 30, 2001).

Product Comparisons

In accordance with section 771(16) of the Act, we considered all products produced by the respondent covered by the description in the “Scope of the Investigation” section above, and sold in the home market during the POI, to be foreign like products for purposes of determining appropriate product comparisons to U.S. sales. We compared U.S. sales to sales of identical merchandise in the comparison market made in the ordinary course of trade, where possible. Where there were no sales of identical merchandise in the home market to compare to U.S. sales, we compared U.S. sales to the next most similar foreign like product made in the ordinary course of trade. To determine the appropriate product comparisons, we compared the following physical characteristics of the products in order of importance: hardening and tempering; painted; carbon level; quality; yield strength; minimum thickness; thickness tolerance; width; edge finish; form; temper rolling; leveling, annealing and surface finish.

Export Price and Constructed Export Price

Where Sidor sold merchandise directly to unaffiliated purchasers in the United States, we calculated EP, in accordance with section 772(a) of the Act, because the merchandise was sold to the first unaffiliated purchaser in the United States prior to importation by the exporter or producer outside the United States, or to an unaffiliated purchaser for exportation to the United States. We based EP on the packed price to the unaffiliated customer in the United States (the starting price). We made adjustments to the starting price for billing adjustments where applicable. We deducted from the starting price, where applicable, amounts for discounts and rebates. In addition, we deducted movement expenses in accordance with section 772(c)(2)(A) of the Act, where appropriate. In this case, movement expenses include international freight, brokerage and handling charges, marine insurance, U.S. duties, and U.S. inland freight.

We calculated CEP, in accordance with subsections 772(b) of the Act, for those sales made by Siderca Corporation, Sidor's U.S. affiliate, to the first unaffiliated purchaser in the United States. We based CEP on the packed, delivered, duty paid or delivered prices to unaffiliated purchasers in the United States. We made adjustments to the starting price for billing adjustments where applicable. Where appropriate, we made deductions for discounts. We also made deductions for the following movement expenses in accordance with section 772(c)(2)(A) of the Act: international freight; marine insurance; U.S. Customs duties; brokerage and handling; and U.S. inland freight from port to warehouse. In accordance with section 772(d)(1) of the Act, we deducted those selling expenses associated with economic activities occurring in the United States, including direct selling expenses (credit and warranty expenses), inventory carrying costs, and other indirect selling expenses. We also made an adjustment for profit in accordance with section 772(d)(3) of the Act.

We recalculated the U.S. credit expense for EP sales, because Sidor reported it had no U.S. borrowings during the POI. In the event respondent has no U.S. borrowing, the Department's practice is to use a U.S. published commercial bank prime short-term lending rate. See Import Administration Policy Bulletin: Imputed Credit Expenses and Interest Rates (February 23, 1998). In recalculating the short-term interest rate, we used the weighted-average effective loan rate for commercial and industrial loans during the POI as reported by the U.S. Federal Reserve statistical release.

The Department is denying Sidor's claim for duty drawback for this preliminary determination because the reported duty drawback was not directly linked to the amount of duty paid on imports used in the production of merchandise for export as required by the Department's two-part test. The two-prong test which the Department considers when deciding whether to grant a duty drawback adjustment is whether the: (1) Import duty and rebate are directly linked to, and dependent upon, one another; and (2) company claiming the adjustment can show that there were sufficient imports of the imported raw materials to account for the drawback received on the exported product. See Rajinder Pipes Ltd. v. United States, 70 F. Supp. 2d 1350, 1358 (CIT 1999).

In our analysis of Sidor's duty drawback information, we found that Sidor did not provide sufficient evidence on the record to demonstrate that a direct link existed between the import duties paid and the amount rebated upon exportation of the subject merchandise. We issued Sidor the original section B and C questionnaire, followed by two supplemental questionnaires, and the information on the record is still unclear and insufficient for these reasons. First, the respondent provided a chart of the inputs it imported during the POI that were used in the production of cold-rolled steel: however this chart was not translated into English, and therefore not readable. See Sidor's second supplemental B and C response dated April 11, 2002 at Exhibit 11. Second, the Venezuelan regulations, that the Department requested Sidor to provide, were also not fully translated into English as required by 19 CFR 351.303(e). The company provided only one page of English translation for approximately fifty pages of Spanish text, and the translated portion was not sufficient to establish the necessary link. See Sidor's second supplemental B and C response dated April 11, 2002 at Exhibit 10. Third, we are also unable to tell if the respondent had a sufficient quantity of imports of the inputs in question to account for the duty drawback upon exportation of cold-rolled, as the information on the record was not translated. The Department intends to fully examine this issue at verification, and may reconsider its position for the final determination based on the results of verification.

Normal Value

After testing home market viability and whether home market sales were at below-cost prices, we calculated NV as noted in the “Price-to-Price Comparisons” and “Price-to-CV Comparison” sections of this notice.

A. Home Market Viability

To determine whether there was a sufficient volume of sales in the home market to serve as a viable basis for calculating NV (i.e., the aggregate volume of home market sales of the foreign like product was equal to or greater than five percent of the aggregate volume of U.S. sales), we compared Sidor's volume of home market sales of the foreign like product to the volume of its U.S. sales of the subject merchandise, in accordance with section 773(a)(1)(C) of the Act. Because Sidor's aggregate volume of home market sales of the foreign like product was greater than five percent of its aggregate volume of U.S. sales of the subject merchandise, we determined that the home market was viable. Therefore, we have based NV on home market sales in the usual commercial quantities and in the ordinary course of trade.

B. Cost of Production Analysis

Based on the information contained in a timely filed cost allegation by the petitioners on March 14, 2002, the Department found reasonable grounds to believe or suspect that Sidor's sales of the foreign like product in their respective comparison markets were made at prices below the cost of production (“COP”), pursuant to section 773(b)(1) of the Act. As a result, the Department initiated a country-wide sales-below-cost investigation. See Allegation of Sales Below Cost.

1. Calculation of COP

In accordance with section 773(b)(3) of the Act, we calculated COP based on the sum of Sidor's cost of materials and fabrication for the foreign like product, an amount for selling, general, and administrative expenses (“SG&A”) based on actual data pertaining to production and sales of the foreign like product by the exporter in question, interest expenses, and packing costs. We relied on the COP data submitted by Sidor in its section D cost questionnaire response, except as noted below.

1. We revised Sidor's G&A rate to be based on the fiscal year costs and not the POI costs, as reported.

2. We revised respondent's financial expense rate to also be based on fiscal year costs and not on POI costs, as reported. See Memorandum from Gina K. Lee to Neal M. Halper, Director, Office of Accounting, dated April 26, 2002, Re: Cost of Production and Constructed Value Adjustments for Preliminary Determination.

2. Test of Home Market Prices

On a product specific basis, we compared the weighted-average COP figures for Sidor to home market sales prices of the foreign like product, as required under section 773(b) of the Act, in order to determine whether sales had been made at prices below their COPs. In determining whether to disregard home market sales made at prices less than the COP, we examined whether: (1) Within an extended period of time, such sales were made in substantial quantities, and (2) the below-cost prices would permit the recovery of all costs within a reasonable period of time. We compared COP to home market prices, less any applicable movement charges, billing adjustments, and direct and indirect selling expenses.

3. Results of the COP Test

Pursuant to section 773(b)(2)(C)(i) of the Act, where less than 20 percent of a respondent's sales of a given product were made at prices below the COP, we did not disregard any below-cost sales of that product because we determined that the below-cost sales were not made in “substantial quantities.” Where 20 percent or more of the respondent's sales of a given product during the POI were made at prices below the COP, we determined such sales to have been made in “substantial quantities” pursuant to section 773(b)(2)(C)(i) within an extended period of time, in accordance with section 773(b)(2)(B) of the Act. In such cases, because we compared prices to weighted-average COPs for the POI, we also determined that such sales were not made at prices which would permit recovery of all costs within a reasonable period of time, pursuant to section 773(b)(2)(D) of the Act. Therefore, we disregarded the below-cost sales. Where all sales of a specific product were made at prices below the COP, we disregarded all sales of that product. For those U.S. sales of subject merchandise for which there were no comparable home market sales in the ordinary course of trade, we compared the EP/CEP to CV in accordance with section 773(a)(4) of the Act.

C. Calculation of Constructed Value

In accordance with section 773(e)(1) of the Act, we calculated CV based on the sum of Sidor's cost of materials, fabrication, SG&A, including interest expenses, profit, and packing. In accordance with section 773(e)(2)(A) of the Act, we based SG&A and profit on the amounts incurred and realized by Sidor in connection with the production and sale of the foreign like product in the ordinary course of trade for consumption in Venezuela. For CV, we made the same adjustments described in the COP section above.

D. Price-to-Price Comparisons

We calculated NV for Sidor on prices of home market sales that passed the cost test. We made adjustments for billing adjustments, discounts and rebates, where appropriate. Also, we made deductions, where appropriate, for inland freight and inland toll expenses pursuant to section 773(a)(6)(B) of the Act. In addition, we made adjustments for differences in cost attributable to differences in physical characteristics of the merchandise, as well as for differences in circumstances of sale (“COS”) in accordance with section 773(a)(6)(C)(iii) of the Act and 19 CFR 351.410. We made COS adjustments, where appropriate, for imputed credit, warranty expenses, and technical expenses. Finally, we deducted home market packing costs and added U.S. packing costs in accordance with section 773(a)(6)(A) and (B) of the Act. We recalculated credit expenses for those sales with missing payment date because payment has not yet been made. For sales with missing payment dates, the Department set the date of payment as the projected preliminary determination date. For further explanation, see Analysis Memorandum from Catherine Bertrand to The File, dated April 26, 2002.

We have analyzed Sidor's claim for other discounts. We issued Sidor the original section B and C questionnaire, followed by two supplemental questionnaires, and the information on the record is still unclear and insufficient to determine if there were discounts appropriately granted because discounts were granted substantially after invoicing had occurred. See Department's questionnaire to Sidor on November 19, 2001, and Department's supplemental questionnaires to Sidor on February 13, 2002 and April 1, 2002. Sidor stated that in the database field “other discounts” it reported data for two types of commercial discounts: (1) Commercial discounts, pursuant to agreements with certain clients, in which a credit note is issued after the merchandise has been shipped and invoiced and is based on commercial consideration; and (2) price adjustments which are either credit notes or debit notes correcting pricing errors in their sales orders. See Sidor's second supplemental B and C response dated April 11, 2002 at 4-5. As both of these discounts are reported in the same field, it is not possible to tell which type of discount is involved for each sale. Also, Sidor did not provide a copy of the agreements on which the first type of discounts is based. Furthermore, Sidor also did not fully explain the term “commercial consideration” which is the reason Sidor provided for granting the commercial discount. Therefore, because the information on the record to date is unclear and insufficient for the Department to determine what type of discount, if any, was granted, the Department is denying this discount for the preliminarily determination. The Department intends to fully examine this issue at verification, and may reconsider its position for the final determination based on the results of verification.

E. Price-to-CV Comparisons

In accordance with section 773(a)(4) of the Act, we based NV on CV when we were unable to find a home market match of such or similar merchandise. Where appropriate, we made adjustments to CV in accordance with section 773(a)(8) of the Act. For comparisons to EP, we made COS adjustments by deducting the weighted average home market selling expenses and adding U.S. direct selling expenses. Where we compared CV to CEP, we deducted from CV the average home market direct selling expenses.

F. Level of Trade

In accordance with section 773(a)(1)(B)(i) of the Act, to the extent practicable, we determine NV based on sales in the comparison market at the same level of trade (“LOT”) as the EP or CEP transaction. The NV LOT is that of the starting price comparison sales in the home market or, when NV is based on CV, that of the sales from which we derive SG&A expenses and profit. For EP, the LOT is also the level of the starting price sale, which is usually from the exporter to the importer. For CEP, it is the level of the constructed sale from the exporter to the importer. To determine whether NV sales are at a different LOT than EP or CEP sales, we examine stages in the marketing process and selling functions along the chain of distribution between the producer and the unaffiliated customer in the comparison market. If the comparison-market sales are at a different LOT, and the difference affects price comparability, as manifested in a pattern of consistent price differences between the sales on which NV is based and comparison market sales at the LOT of the export transaction, we make a LOT adjustment under section 773(a)(7)(A) of the Act. Finally, for CEP sales, if the NV level is more remote from the factory than the CEP level and there is no basis for determining whether the differences in the levels between NV and CEP sales affects price comparability, we adjust NV under section 773(a)(7)(B) of the Act (the CEP offset provision). See Certain Cut-to-Length Carbon Steel Plate from South Africa, Notice of Final Determination of Sales at Less Than Fair Value, 62 FR 61731 (November 19, 1997).

In this investigation, Sidor did not request a level-of-trade adjustment. To ensure that no such adjustment was necessary, in accordance with principles discussed above, we examined information regarding the distribution systems in both the United States and Venezuelan markets, including the selling functions, classes of customers and selling expenses for Sidor. See Memorandum to Edward Yang, Antidumping Duty Investigation of Certain Cold-Rolled Carbon Steel Flat Products from Venezuela: Level of Trade Analysis (April 26, 2002) (“Level of Trade Memorandum”). For its home market sales, Sidor reported two channels of distribution—to unaffiliated end users and to unaffiliated distributors. In reviewing Sidor's LOT in the home market, we asked Sidor to identify the specific differences and similarities in selling functions and/or support services between all channels of distribution in the home market and the United States. Sidor reported that it undertakes different levels of selling functions depending on whether its home market sales are made to distributors or end users. See Level of Trade Memorandum. Because the selling activities engaged in by Sidor differ significantly by channel of distribution, we preliminarily determine that two levels of trade exist for Sidor's home market sales. See Level of Trade Memorandum.

For its U.S. sales, Sidor also reported two channels of distribution. Sidor sold directly to unaffiliated trading companies and also made sales through Siderca Corporation, an affiliated U.S. company, which then sold to unaffiliated customers in the United States. We examined the claimed selling functions performed by Sidor for all U.S. sales. For sales made directly to the unaffiliated U.S. customer (EP sales), Sidor performed the same selling functions that it provided for sales made to Siderica Corporation. Sidor provided the same level of the following services for both EP and CEP sales in the U.S.: technical advice and services, visits to customers, solicitation of customer orders, market research, advertising, freight and delivery arrangements and packing.

In order to determine whether NV was established at a different LOT than CEP sales, we examined stages in the marketing process and selling functions along the chains of distribution between Sidor and its home market customers. We compared the selling functions performed for home market sales with those performed with respect to the CEP transaction, after deductions for economic activities occurring in the United States, pursuant to section 772(d) of the Act, to determine if the home market levels of trade constituted more advanced stages of distribution than the CEP level of trade. Sidor requested a CEP offset in this investigation. Sidor reported that it provided virtually no selling functions for the CEP level of trade and that, therefore, the two home market levels of trade are more advanced than the CEP level of trade. To determine whether a CEP offset was necessary, in accordance with the principles discussed above, we examined information regarding the distribution systems in both the United States and Venezuelan markets, including the selling functions, classes of customer, and selling expenses.

Based on our analysis of the channels of distribution and selling functions performed for sales in the home market and CEP sales in the U.S. market, we preliminarily find that both home market LOTs were at a more advanced stage of distribution when compared to respondent's CEP sales. See Level of Trade Memorandum. We were unable to quantify the LOT adjustment in accordance with section 773(a)(7)(A) of the Act, as we found that neither of the LOTs in the home market matched the LOT of the CEP transactions. Accordingly, we did not calculate a LOT adjustment. Instead, we applied a CEP offset to the NV for CEP comparisons. To calculate the CEP offset, we deducted the home market indirect selling expenses from normal value for home market sales that were compared to U.S. CEP sales. We therefore limited the home market indirect selling expense deduction by the amount of the indirect selling expenses deducted in calculating the CEP as required under section 772(d)(1)(D) of the Act.

We are unable to make a LOT adjustment for EP sales because Sidor does not sell the subject merchandise in the home market at the same LOT as that of its EP sales, and there is no data on the record that would allow the Department to establish whether there is a pattern of consistent price differences between sales at different levels of trade in the comparison market. Therefore, and LOT adjustment is not possible for comparisons of EP sales to home market sales.

Currency Conversion

We made currency conversions into U.S. dollars based on the exchange rates in effect on the dates of the U.S. sales, as certified by the Federal Reserve Bank, in accordance with section 773A(a) of the Act.

Verification

As provided in section 782(i) of the Act, we intend to verify all information relied upon in making our final determination.

The All Others Rate

Because the Department investigated one company, Sidor, we used Sidor's margin in this investigation as the all-others rate.

Suspension of Liquidation

In accordance with section 733(d) of the Act, we are directing the Customs Service to suspend liquidation of all imports of subject merchandise that are entered, or withdrawn from warehouse, for consumption on or after the date of publication of this notice in the Federal Register. We will instruct the Customs Service to require a cash deposit or the posting of a bond equal to the weighted-average amount by which the NV exceeds the export price, as indicated below. These suspension-of-liquidation instructions will remain in effect until further notice. The weighted-average dumping margins are as follows:

Exporter/manufacturer | Weighted-average margin (percent)
Sidor | 72.81
All Others | 72.81

ITC Notification

In accordance with section 733(f) of the Act, we have notified the ITC of our determination. If our final determination is affirmative, the ITC will determine before the later of 120 days after the date of this preliminary determination or 45 days after our final determination whether imports of cold-rolled steel are materially injuring, or threaten material injury to, the U.S. industry.

Public Comment

Case briefs or other written comments may be submitted to the Assistant Secretary for Import Administration no later than fifty days after the date of publication of this notice, and rebuttal briefs, limited to issues raised in case briefs, no later than fifty-five days after the date of publication of this preliminary determination. A list of authorities used and an executive summary of issues should accompany any briefs submitted to the Department. This summary should be limited to five pages total, including footnotes. In accordance with section 774 of the Act, we will hold a public hearing, if requested, to afford interested parties an opportunity to comment on arguments raised in case or rebuttal briefs. Tentatively, any hearing will be held fifty-seven days after publication of this notice at the U.S. Department of Commerce, 14th Street and Constitution Avenue, NW., Washington, DC 20230, at a time and location to be determined. Parties should confirm by telephone the date, time, and location of the hearing 48 hours before the scheduled time.

Interested parties who wish to request a hearing, or to participate if one is requested, must submit a written request to the Assistant Secretary for Import Administration, U.S. Department of Commerce, Room 1870, within 30 days of the date of publication of this notice. Requests should contain: (1) The party's name, address, and telephone number; (2) the number of participants; and (3) a list of the issues to be discussed. At the hearing, each party may make an affirmative presentation only on issues raised in that party's case brief, and may make rebuttal presentations only on arguments included in that party's rebuttal brief. See 19 CFR 351.310(c). We will issue our final determination in this investigation no later than 135 days after the date of publication in the Federal Register of the preliminary determination.

This determination is issued and published in accordance with sections 733(f) and 777(i)(1) of the Act.

Dated: April 26, 2002.
Faryar Shirzad,
Assistant Secretary for Import Administration.

[FR Doc. 02-11201 Filed 5-8-02; 8:45 am]

BILLING CODE 3510-DS-P